DEPARTMENT OF JUSTICE

Notice of Lodging of Proposed Amendment to a Consent Decree Under the Comprehensive Environmental Response, Compensation, and Liability Act

On September 30, 2022, the Department of Justice lodged a proposed consent decree with the United States District Court for the District of New Hampshire in the lawsuit entitled United States, et al. v. Fort James LLC, et al., Civil Action No. 1:22-cv-395.

In that action, the United States sought, pursuant to the Comprehensive Environmental Response, Compensation, and Liability Act (“CERCLA”), 42 U.S.C. 9601, et seq., injunctive relief and recovery of response costs regarding the Chlor-Alkali Facility (Former) Superfund Site in Berlin, New Hampshire (the “Site”). The proposed consent decree will require three settling parties to perform a remedial action at the Site, to reimburse the U.S. Environmental Protection Agency for its future costs and a portion of its past costs at the Site, and to reimburse the New Hampshire Department of Environmental Services for its future costs at the Site.

The publication of this notice opens a period for public comment on the proposed consent decree. Comments should be addressed to the Assistant Attorney General, Environment and Natural Resources Division, and should refer to United States, et al. v. Fort James LLC, et al., Civil Action No. 1:22-cv-395, D.J. Ref. No. 90-11-2-09455/3. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed amended consent decree may be examined and downloaded at this Justice Department website: https://www.justice.gov/enrd/consent-decrees. We will provide a paper copy of the proposed amended consent decree upon written request and payment of reproduction costs. Please mail your request and payment to: Consent Decree Library, U.S. DOJ—ENRD, P.O. Box 7611, Washington, DC 20044-7611.

Please enclose a check or money order for $61.00 (25 cents per page reproduction cost) payable to the United States Treasury. For a copy of the Consent Decree without its attachments, enclose a check or money order for $9.00.

Henry Friedman,
Assistant Section Chief, Environmental Enforcement Section, Environment and Natural Resources Division.

[FR Doc. 2022-21724 Filed 10-5-22; 8:45 am]

BILLING CODE 4410-15-P